DEPARTMENT OF LABOR

Employment and Training Administration

[TA-W-63,339]

Contact Systems, Inc. Danbury, CT; Notice of Termination of Investigation

Pursuant to section 221 of the Trade Act of 1974, as amended, an investigation was initiated on May 8, 2008 in response to a worker petition filed a company official on behalf of workers at Contact Systems, Inc., Danbury, Connecticut.

The petitioner has requested that the petition be withdrawn. Consequently, the investigation has been terminated.

Signed at Washington, DC this 4th day of June, 2008.
Richard Church,
Certifying Officer, Division of Trade Adjustment Assistance.

[FR Doc. E8-13407 Filed 6-13-08; 8:45 am]

BILLING CODE 4510-FN-P